DEPARTMENT OF HOMELAND SECURITY

Federal Emergency Management Agency

[Docket ID FEMA-2017-0002]

Changes in Flood Hazard Determinations

AGENCY: Federal Emergency Management Agency, DHS.

ACTION: Final notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW., Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Dated: November 2, 2017.
Roy E. Wright,
Deputy Associate Administrator for Insurance and Mitigation, Department of Homeland Security, Federal Emergency Management Agency.

State and county | Location and case No. | Chief executive officer of community | Community map repository | Date of modification | Community No.
Arizona:
Greenlee (FEMA Docket No.: B-1730) | Unincorporated Areas of Greenlee County (17-09-0131P) | The Honorable David Gomez, Chairman, Board of Supervisors, Greenlee County, P.O. Box 908, Clifton, AZ 85533 | Greenlee County Planning and Zoning Department, 253 5th Street, Clifton, AZ 85533 | Sep. 14, 2017 | 040110
Maricopa (FEMA Docket No.: B-1726) | City of Peoria (17-09-0311P) | The Honorable Cathy Carlat, Mayor, City of Peoria, 8401 West Monroe Street, Peoria, AZ 85345 | City Hall, 8401 West Monroe Street, Peoria, AZ 85345 | Aug. 25, 2017 | 040050
Maricopa (FEMA Docket No.: B-1726) | City of Scottsdale (17-09-0074P) | The Honorable W.J. “Jim” Lane, Mayor, City of Scottsdale, City Hall, 3939 North Drinkwater Boulevard, Scottsdale, AZ 85251 | Scottsdale Planning Records, 7447 East Indian School Road, Suite 100, Scottsdale, AZ 85251 | Aug. 25, 2017 | 045012
Maricopa (FEMA Docket No.: B-1726) | Unincorporated Areas of Maricopa County (16-09-2971P) | The Honorable Denny Barney, Chairman, Board of Supervisors, Maricopa County, 301 West Jefferson Street, 10th Floor, Phoenix, AZ 85003 | Flood Control District of Maricopa County, 2801 West Durango Street, Phoenix, AZ 85009 | Sep. 1, 2017 | 040037
Pinal (FEMA Docket No.: B-1726) | Unincorporated Areas of Pinal County (16-09-2973P) | The Honorable Stephen Miller, Chairman, Board of Supervisors, Pinal County, 135 North Pinal Street, Florence, AZ 85132 | Pinal County Department of Public Works, 31 North Pinal Street, Building F, Florence, AZ 85132 | Aug. 23, 2017 | 040077
California:
Butte (FEMA Docket No.: B-1726) | Unincorporated Areas of Butte County (17-09-0110P) | The Honorable Bill Connelly, Chairman, Board of Supervisors, Butte County, 5280 Lower Wyandotte Road, Oroville, CA 95966 | Butte County Department of Public Works, 7 County Center Drive, Oroville, CA 95965 | Aug. 30, 2017 | 060017
Riverside (FEMA Docket No.: B-1730) | City of Wildomar (17-09-0430P) | The Honorable Timothy Walker, Mayor, City of Wildomar, 23873 Clinton Keith Road, Suite 201, Wildomar, CA 92595 | City Hall, 23873 Clinton Keith Road, Suite 201, Wildomar, CA 92595 | Sep. 15, 2017 | 060221
Riverside (FEMA Docket No.: B-1730) | Unincorporated Areas of Riverside County (17-09-0232P) | The Honorable John F. Tavaglione, Chairman, Board of Supervisors, Riverside County, 4080 Lemon Street, 5th Floor, Riverside, CA 9250 | Riverside County Flood Control and Water Conservation District, 1995 Market Street, Riverside, CA 92502 | Sep. 8, 2017 | 060245
Hawaii:
Honolulu (FEMA Docket No.: B-1730) | City and County of Honolulu (16-09-2530P) | The Honorable Kirk Caldwell, Mayor, City of Honolulu, 530 South King Street, Room 300, Honolulu, HI 96813 | Department of Planning and Permitting, 650 South King Street, Honolulu, HI 96813 | Sep. 8, 2017 | 150001
Maui (FEMA Docket No.: B-1730) | Maui County (17-09-0740P) | The Honorable Alan M. Arakawa, Mayor, Maui County, 200 South High Street, Kalana O Maui Building 9th Floor, Wailuku, HI 96793 | County of Maui Planning Department, 2200 Main Street, Suite 335, Wailuku, HI 96793 | Sep. 8, 2017 | 150003
Illinois: Will (FEMA Docket No.: B-1726) | Village of Plainfield (15-05-7793P) | The Honorable Michael P. Collins, Village President, Village of Plainfield, 24401 West Lockport Street, Plainfield, IL 60544 | Village Hall, 24401 West Lockport Street, Plainfield, IL 60544 | Aug. 18, 2017 | 170771
Indiana: Marion (FEMA Docket No.: B-1730) | City of Indianapolis (17-05-1432P) | The Honorable Joe Hogsett, Mayor, City of Indianapolis, 2501 City-County Building, 200 East Washington Street, Indianapolis, IN 46204 | City Hall, 1200 Madison Avenue, Suite 100, Indianapolis, IN 46225 | Sep.12, 2017 | 180159
Iowa: Ringgold (FEMA Docket No.: B-1726) | Unincorporated Areas of Ringgold County (17-07-0216P) | The Honorable Paul Dykstra, Chairperson, Ringgold County Board of Supervisors, County Courthouse, 109 West Madison Street, Mount Ayr, IA 50854 | Ringgold County Courthouse, 109 West Madison Street, Mount Ayr, IA 50854 | Aug. 18, 2017 | 190903
Kansas:
Johnson (FEMA Docket No.: B-1730) | City of Overland Park (17-07-0741P) | The Honorable Carl Gerlach, Mayor, City of Overland Park, City Hall, 8500 Santa Fe Drive, Overland Park, KS 66212 | City Hall, 8500 Santa Fe Drive, Overland Park, KS 66212 | Sep. 5, 2017 | 200174
Riley (FEMA Docket No.: B-1726) | City of Ogden (16-07-1213P) | The Honorable Robert R. Pence, Jr., Mayor, City of Ogden, 222 Riley Avenue, Ogden, KS 66517 | City Hall, 222 Riley Avenue, Ogden, KS 66517 | Aug. 10, 2017 | 200301
Riley (FEMA Docket No.: B-1726) | Unincorporated Areas of Riley County (16-07-1213P) | Mr. Ron Wells, Chair, Riley County Commissioner, 3609 Anderson Avenue, Manhattan, KS 66503 | Riley County Office Building, 110 Courthouse Plaza, Manhattan, KS 66502 | Aug. 10, 2017 | 200298
Michigan:
Kalamazoo (FEMA Docket No.: B-1726) | City of Kalamazoo (16-05-5168P) | The Honorable Bobby J. Hopewell, Mayor, City of Kalamazoo, 241 West South Street, Kalamazoo, MI 49007 | City Hall, 241 West South Street, Kalamazoo, MI 49007 | Aug. 22, 2017 | 260315
Macomb (FEMA Docket No.: B-1730) | Charter Township of Clinton (17-05-2484P) | Mr. Robert J. Cannon, Supervisor, Charter Township of Clinton, 40700 Romeo Plank Road, Clinton Township, MI 48038 | City Hall, 40700 Romeo Plank Road, Clinton Township, MI 48038 | Sep. 14, 2017 | 260121
Missouri:
St. Louis (FEMA Docket No.: B-1726) | City of Des Peres (17-07-0868P) | The Honorable Richard G. Lahr, Mayor, City of Des Peres, 12325 Manchester Road, Des Peres, MO 63131 | City Hall, 12325 Manchester Road, Des Peres, MO 63131 | Sep. 5, 2017 | 290347
St. Louis (FEMA Docket No.: B-1730) | City of Maryland Heights (17-07-0909P) | The Honorable Michael Moeller, Mayor, City of Maryland Heights, 11911 Dorsett Road, Maryland Heights, MO 63043 | Maryland Heights Government Center, 11911 Dorsett Road, Maryland Heights, MO 63043 | Sep. 15, 2017 | 290889
New Jersey: Passaic (FEMA Docket No.: B-1726) | City of Paterson (17-02-0940P) | The Honorable Jose Torres, Mayor, City of Paterson, City Hall, 155 Market Street, Paterson, NJ 07505 | City Hall, 155 Market Street, Paterson, NJ 07505 | Aug. 25, 2017 | 340404
New York:
Rockland (FEMA Docket No.: B-1722) | Town of Clarkstown (16-02-1162P) | Mr. George Hoehmann, Supervisor, Town of Clarkstown, 10 Maple Avenue, New City, NY 10956 | Town Hall, 10 Maple Avenue, New City, NY 10956 | Sep. 15, 2017 | 360679
Rockland (FEMA Docket No.: B-1722) | Village of Spring Valley (16-02-1162P) | The Honorable Demeza Delhomme, Mayor, Village of Spring Valley, 200 North Main Street, Spring Valley, NY 10977 | Building Department, 200 North Main Street, Spring Valley, NY 10977 | Sep. 15, 2017 | 365344
Oregon: Multnomah (FEMA Docket No.: B-1726) | City of Portland (17-10-0646X) | The Honorable Charlie Hales, Mayor, City of Portland, 1221 Southwest 4th Avenue, Room 340, Portland, OR 97204 | Bureau of Environmental Services, 1221 Southwest 4th Avenue, Room 230, Portland, OR 97204 | Aug. 24, 2017 | 410183
South Carolina: Spartanburg (FEMA Docket No.: B-1730) | Unincorporated Areas of Spartanburg County (17-04-2662P) | Ms. Katherine L. O'Neill, County Administrator Spartanburg County, Administration Building, 366 North Church Street, Spartanburg, SC 29303 | Spartanburg County Administration Building, 366 North Church Street, Spartanburg, SC 29303 | Sep. 19, 2017 | 450176
Texas: Dallas (FEMA Docket No.: B-1726) | City of Dallas (17-06-0526P) | The Honorable Michael S. Rawlings, Mayor, City of Dallas, 1500 Marilla Street, Suite 5EN, Dallas, TX 75201 | Department of Public Works, 320 East Jefferson Boulevard, Room 321, Dallas, TX 75203 | Aug. 25, 2017 | 480171
Wisconsin:
Brown (FEMA Docket No.: B-1726) | Village of Bellevue (16-05-4339P) | The Honorable Steve Soukup, President, Village Board, 2828 Allouez Avenue, Bellevue, WI 54311 | Village Hall, 2828 Allouez Avenue, Bellevue, WI 54311 | Sep. 1, 2017 | 550627
Kenosha (FEMA Docket No.: B-1730) | Village of Pleasant Prairie (17-05-1426P) | Mr. John P. Steinbrink, Village President, Village of Pleasant Prairie, Village Hall, 9915 39th Avenue, Pleasant Prairie, WI 53158 | Village Hall, 9915 39th Avenue, Pleasant Prairie, WI 53158 | Sep. 12, 2017 | 550613
Waukesha (FEMA Docket No.: B-1730) | Village of Sussex (17-05-0249P) | Mr. Jeremy Smith, Village Administrator, Village of Sussex, N64W23760 Main Street, Sussex, WI 53089 | Village Hall, N64W23760 Main Street, Sussex, WI 53089 | Aug. 25, 2017 | 550490

[FR Doc. 2017-26332 Filed 12-6-17; 8:45 am]

BILLING CODE 9110-12-P